DEPARTMENT OF HEALTH AND HUMAN SERVICES

Announcement of Inaugural Meeting of the Secretary's Advisory Committee on National Health Promotion and Disease Prevention Objectives for 2030

AGENCY: Office of Disease Prevention and Health Promotion, Office of the Assistant Secretary for Health, Office of the Secretary, Department of Health and Human Services.

ACTION: Notice.

SUMMARY: The U.S. Department of Health and Human Services (HHS) announces the first in a series of federal advisory committee meetings regarding the national health promotion and disease prevention objectives for 2030. The first meeting will be held in the Washington, DC metropolitan area. These meetings will be open to the public. The Committee will review the nation's health promotion and disease prevention objectives and accomplishments and will recommend goals and objectives to improve the health status and reduce health risks for Americans by the year 2030. The Committee will advise the Secretary on the Healthy People 2030 mission statement, vision statement, framework, and organizational structure. The Committee will provide advice regarding developing criteria for identifying a more focused set of measurable, nationally representative objectives. The Committee's advice must assist the Secretary in reducing the number of objectives while ensuring that the selection criteria identifies the most critical public health issues that are high-impact priorities supported by current national data sets.

DATES: The Committee will meet for two days, December 1, 2016, from 9:00 a.m. to 5:00 p.m. and December 2, 2016, from 8:30 a.m. to 3:00 p.m. Eastern Time.

ADDRESSES: The meeting will be held at the 20 F Street Conference Center located at 20 F Street NW., Washington, DC 20001, Conference Rooms A and B.

FOR FURTHER INFORMATION CONTACT: Emmeline Ochiai, Designated Federal Officer, Secretary's Advisory Committee on National Health Promotion and Disease Prevention Objectives for 2030, U.S. Department of Health and Human Services, Office of the Assistant Secretary for Health, Office of Disease Prevention and Health Promotion, 1101 Wootton Parkway, Room LL-100, Rockville, MD 20852, (240) 453-8280 (telephone), (240) 543-8281 (fax). Additional information is available on the Healthy People Web site at http://www.healthypeople.gov.

SUPPLEMENTARY INFORMATION: The names of the 13 members of the Secretary's Advisory Committee on National Health Promotion and Disease Prevention Objectives for 2030 are available at http://www.healthypeople.gov.

Purpose of Meeting: Every 10 years, through the Healthy People initiative, the HHS leverages scientific insights and lessons from the past decade, along with the new knowledge of current data, trends, and innovations, to develop the next iteration of national health promotion and disease prevention objectives. Healthy People provides science-based, 10-year national objectives for promoting health and preventing disease. Since 1979, Healthy People has established and monitored national health objectives to meet a broad range of health needs, encourage collaborations across sectors, guide individuals toward making informed health decisions, and measure the impact of disease prevention and health promotion activities. Healthy People 2030 will reflect assessments of major risks to health and wellness, changing public health priorities, and emerging technologies related to our nation's health preparedness and prevention.

Public Participation at Meeting: Members of the public are invited to observe the Committee meeting. Please note that there will be no opportunity for oral public comments during the inaugural meeting of the Committee. However, written comments are welcomed throughout the development process of the national health promotion and disease prevention objectives for 2030 and may be emailed to HP2030@hhs.gov.

To observe the Committee meeting, individuals must pre-register at the Healthy People Web site at http://www.healthypeople.gov. Registrations must be completed by close of business Eastern Time on November 28, 2016. Space for the meeting is limited and registration will be accepted until maximum room capacity is reached. A waiting list will be maintained should registrations exceed room capacity. Individuals on the waiting list will be contacted as additional space for the meeting becomes available. Registration questions may be directed to: Jim Nakayama at events@nakamotogroup.com, or (240) 672-4011.

Authority: 42 U.S.C. 217a. The Secretary's Advisory Committee on National Health Promotion and Disease Prevention Objectives for 2030 (Committee) is governed by provisions of the Federal Advisory Committee Act (FACA), Public Law 92-463, as amended (5 U.S.C., App.) which sets forth standards for the formation and use of federal advisory committees.

Dated: November 4, 2016.
Don Wright,
Deputy Assistant Secretary for Health, Disease Prevention and Health Promotion.

[FR Doc. 2016-27325 Filed 11-10-16; 8:45 am]

BILLING CODE 4150-32-P